DEPARTMENT OF TRANSPORTATION

Federal Railroad Administration

[Docket No. FRA-2000-7257, Notice No. 88]

Railroad Safety Advisory Committee

AGENCY: Federal Railroad Administration (FRA), Department of Transportation (DOT).

ACTION: Notice of meeting.

SUMMARY: FRA announces the fifty-eighth meeting of the RSAC, a Federal Advisory Committee that develops railroad safety regulations through a consensus process.

DATES: The RSAC meeting is scheduled for Wednesday and Thursday, April 24 and 25, 2019. On both days, the meeting will commence at 9:30 a.m. and will adjourn by 3:30 p.m.

ADDRESSES: The RSAC meeting will be held at the National Association of Home Builders, National Housing Center, located at 1201 15th Street NW, Washington, DC 20005.

FOR FURTHER INFORMATION CONTACT: Kenton Kilgore, RSAC Designated Federal Officer/RSAC Coordinator, FRA Office of Railroad Safety, (202) 493-6286; or Larry Woolverton, Executive Officer, FRA Office of Railroad Safety, (202) 493-6212.

SUPPLEMENTARY INFORMATION: Pursuant to Section 10(a)(2) of the Federal Advisory Committee Act (Pub. L. 92-463), FRA is giving notice of a meeting of the RSAC. The RSAC is composed of 40 voting representatives from 29 member organizations representing various rail industry perspectives. The diversity of the Committee ensures the requisite range of views and expertise necessary to discharge its responsibilities. Please see the RSAC website for additional information at http://rsac.fra.dot.gov/.

Public Participation: The meeting is open to the public on a first-come, first-served basis, and is accessible to individuals with disabilities. The U.S. Department of Transportation and the Federal Railroad Administration are committed to providing equal access to this meeting for all participants. If you need alternative formats or services because of a disability, please contact either of the individuals listed in the For Further Information Contact section below and submit your request at least five business days in advance of the meeting.

Persons who wish to submit written comments for consideration by RSAC during the meeting must submit them no later than April 19, to ensure transmission to RSAC members prior to the meeting. Comments received after that date and time will be distributed to the members but may not be reviewed prior to the meeting.

Agenda Summary: The RSAC meeting will include opening remarks from the FRA Administrator, as well as an update on the railroad industry's implementation of positive train control. FRA will present reports from the Passenger Safety Working Group and the Tourist and Historic Railroads Working Group. The Committee will also discuss proposed procedures for conducting future RSAC activities. This agenda is subject to change.

Issued in Washington, DC.
John Karl Alexy,
Deputy Associate Administrator, Office of Railroad Safety.

[FR Doc. 2019-07072 Filed 4-5-19; 4:15 pm]

BILLING CODE 4910-06-P